DEPARTMENT OF COMMERCE

National Oceanic and Atmospheric Administration

[I.D. 101800LE]

Management and Oversight of the National Estuarine Research Reserve System

AGENCY: National Oceanic and Atmospheric Administration (NOAA).

ACTION: Proposed collection; Comment request.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before December 22, 2000.

ADDRESSES: Direct all written comments to Madeleine Clayton, Departmental Forms Clearance Officer, Department of Commerce, Room 6086, 14th and Constitution Avenue NW., Washington DC 20230 (or via Internet at MClayton@doc.gov).

FOR FURTHER INFORMATION CONTACT: Requests for additional information or copies of the information collection instrument(s) and instructions should be directed to Doris Grimm, N/ORM5, Room 11616, 1305 East West Highway, Silver Spring MD 20910-3282 (phone 301-713-3132 x107).

SUPPLEMENTARY INFORMATION:

I. Abstract

The National Estuarine Research Reserve System consists of carefully selected estuarine areas of the U.S. that are designated, preserved, and managed for research and educational purposes. Information is needed from states on proposals for designations. For selected sites the state must submit a management plan and an annual report/work plan. NOAA needs the information to ensure that the sites selected meet national standards.

II. Method of Collection

Much information can be submitted electronically via a Web site. Other information is submitted in paper form.

III. Data

OMB Number: 0648-0121.

Form Number: N/A.

Type of Review: Regular submission.

Affected Public: State, Local, or Tribal government.

Estimated Number of Respondents: 27.

Estimated Time Per Response: 2,000 hours for a management plan or site nomination; 15 hours for an annual report/work plan; and 2 hours for any supporting documentation such as a categorical exclusion checklist, state Historical Preservation Office comments, a preliminary engineering report for activities involving construction, and a Federal Consistency Certification.

Estimated Total Annual Burden Hours: 14,405.

Estimated Total Annual Cost to Public: $185.

IV. Request for Comments

Comments are invited on: (a) whether the proposed collection of information is necessary for the proper performance of the functions of the agency, including whether the information shall have practical utility; (b) the accuracy of the agency’s estimate of the burden (including hours and cost) of the proposed collection of information; (c) ways to enhance the quality, utility, and clarity of the information to be collected; and (d) ways to minimize the burden of the collection of information on respondents, including through the use of automated collection techniques or other forms of information technology.

Comments submitted in response to this notice will be summarized and /or included in the request for OMB approval of this information collection; they also will become a matter of public record.

Dated: October 17, 2000.
Madeleine Clayton,
Departmental Forms Clearance Officer, Office of the Chief Information Officer.

[FR Doc. 00-27184 Filed 10-20-00; 8:45 am]

BILLING CODE: 3510-08 -S